DEPARTMENT OF DEFENSE

Defense Acquisition Regulations System

48 CFR Part 203

RIN 0750-AG34

Defense Federal Acquisition Regulation Supplement; DoD Inspector General Address (DFARS Case 2009-D001)

AGENCY: Defense Acquisition Regulations System, Department of Defense (DoD).

ACTION: Final rule.

SUMMARY: DoD has issued a final rule amending the Defense Federal Acquisition Regulation Supplement (DFARS) to add the address of the DoD Inspector General office designated for receipt of information relating to a possible contractor violation of Federal criminal law or the civil False Claims Act.

DATES: Effective Date: October 19, 2009.

FOR FURTHER INFORMATION CONTACT: Ms. Amy Williams, Defense Acquisition Regulations System, OUSD (AT&L) DPAP (DARS), IMD 3D139, 3062 Defense Pentagon, Washington, DC 20301-3062. Telephone 703-602-0328; facsimile 703-602-7887. Please cite DFARS Case 2009-D001.

SUPPLEMENTARY INFORMATION:

A. Background

Section 3.1003(b) of the Federal Acquisition Regulation requires that, if a contracting officer becomes aware of a possible contractor violation of Federal criminal law or the civil False Claims Act, the contracting officer must coordinate the matter with the agency Office of the Inspector General or must take action in accordance with agency procedures. This final rule adds text at DFARS 203.1003(b) to provide the address of the DoD Inspector General office designated to receive such information. In addition, the rule makes a correction to the address of the DoD Inspector General office shown at 203.1004(b).

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subpart in accordance with 5 U.S.C. 610. Such comments should cite DFARS Case 2009-D001.

C. Paperwork Reduction Act

The Paperwork Reduction Act does not apply, because the rule does not impose any information collection requirements that require the approval of the Office of Management and Budget under 44 U.S.C. 3501, et seq.

List of Subjects in 48 CFR Part 203

Government procurement.

Amy G. Williams,
Defense Federal Acquisition Regulations System.

Therefore, 48 CFR Part 203 is amended as follows:

PART 203—IMPROPER BUSINESS PRACTICES AND PERSONAL CONFLICTS OF INTEREST

1. The authority citation for 48 CFR Part 203 continues to read as follows:

Authority: 41 U.S.C. 421 and 48 CFR Chapter 1.

2. Section 203.1003 is added to read as follows:

203.1003 Requirements.

(b) Notification of possible contractor violation. Upon notification of a possible contractor violation of the type described in FAR 3.1003(b), coordinate the matter with the following office: DoD Inspector General, Investigative Policy and Oversight, Contractor Disclosure Program, 400 Army Navy Drive, Suite 1037, Arlington, VA 22202-4704; Toll-Free Telephone: 866-429-8011.

203.1004 [Amended]

3. Section 203.1004 is amended in paragraph (b)(2)(ii) by removing “Washington, DC 22202-2884” and adding in its place “Arlington, VA 22202-4704”.

[FR Doc. E9-25066 Filed 10-16-09; 8:45 am]

BILLING CODE 5001-08-P